DEPARTMENT OF TRANSPORTATION

Federal Aviation Administration

Notice of Intent To Rule on Request To Abandon Tatum Airport, Tatum, NM

AGENCY: Federal Aviation Administration (FAA), DOT.

ACTION: Notice of intent to abandon airport property.

SUMMARY: The FAA proposes to rule and invites public comment on the abandonment of the Tatum Airport, Tatum, NM, under provisions of Title 49, U.S.C. Section 47107(h) and to release the State of New Mexico as airport sponsor from the Airport Improvement Program Grant Agreement Grant Assurances, and to change forever the lands of the Tatum Airport from aeronautical to non-aeronautical use. The State of New Mexico will transfer Tatum's grant obligations associated with AIP Grant Number 3-35-0044-001-2002 obligations to Navajo Lake Airport, Navajo Dam NM by investing the grant funds of $27,362 for fencing at Tatum to a fencing project at Navajo Lake Airport.

DATES: Comments must be received on or before October 23, 2008.

ADDRESSES: Comments on this application may be mailed or delivered to the FAA at the following address: Mr. Lacey D. Spriggs, Manager, Federal Aviation Administration Southwest Region, Airports Division Louisiana/New Mexico Airports Development Office, ASW640, 2601 Meacham Boulevard Fort Worth, Texas 76137.

In addition, one copy of any comments submitted to the FAA must be mailed or delivered to Mr. Thomas D. Baca, Director, Aviation Division, New Mexico Highway and Transportation Department, P.O. Box 1149, Santa Fe, New Mexico 87504-1149.

FOR FURTHER INFORMATION CONTACT: Mr. Andy Velayos, Program Manager, Federal Aviation Administration Louisiana/New Mexico Airports Development Office, ASW640, 2601 Meacham Boulevard Fort Worth, Texas 76137.

The request to release the state of New Mexico from the grant assurances may be reviewed in person at this same location.

SUPPLEMENTARY INFORMATION: The FAA invites public comment on the request to abandon Tatum Airport and release the State of New Mexico from the Grant Assurances, and change the status of the lands at the Tatum Airport.

The State of New Mexico as owner of the airport that is on state owned land filed notice with the FAA to permanently abandon Tatum Airport, Tatum, NM. As a result of this request the state will make restitution in the amount of $27,362.00 for the fencing installed by FAA Airport Improvement Program (AIP) Grant in 2002 (one and only AIP Grant at this airport) by investing the same amount of funds in an AIP project at Navajo Lake Airport, Navajo Dam, NM. Prior to the 2002 Grant being issued, Tatum Airport was not federally obligated. This abandonment will result in the lands of the Tatum Airport being changed from aeronautical to nonaeronautical use and release the lands from the conditions of the AIP Grant Agreement Grant Assurances.

Any person may inspect the request in person at the FAA office listed above under FOR FURTHER INFORMATION CONTACT.

In addition, any person may, upon request, inspect the application, notice and other documents germane to the application in person at the office of Mr. Thomas D. Baca, Director, Aviation Division, New Mexico Highway and Transportation Department, P.O. Box 1149, Santa Fe, New Mexico 87504-1149.

Issued in Fort Worth, Texas, on September 24, 2008.
Kelvin L. Solco,
Manager, Airports Division.

[FR Doc. E8-23262 Filed 10-1-08; 8:45 am]

BILLING CODE 4910-13-M